SECURITIES AND EXCHANGE COMMISSION

Proposed Collection; Comment Request

Upon Written Request, Copies Available From: U.S. Securities and Exchange Commission, Office of Investor Education and Advocacy, Washington, DC 20549-0213.

Corrected Extension:

Rule 19b-4 and Form 19b-4; OMB Control No. 3235-0045; SEC File No. 270-38.

Notice is hereby given that pursuant to the Paperwork Reduction Act of 1995 (44 U.S.C. 3501 et seq.), the Securities and Exchange Commission (“Commission”) is soliciting comments on the collection of information summarized below. The Commission plans to submit this existing collection of information to the Office of Management and Budget for extension and approval.

1. Rule 19b-4 (17 CFR 240.19b-4) and Form 19b-4—Filings with respect to proposed rule changes by self-regulatory organizations.

Section 19(b) of the Securities Exchange Act of 1934 (“Act”) (15 U.S.C. 78s(b)) requires each self-regulatory organization (“SRO”) to file with the Commission copies of any proposed rule, or any proposed change in, addition to, or deletion from the rules of such SRO. Rule 19b-4 (17 CFR 240.19b-4) implements the requirements of Section 19(b) by requiring the SROs to file their proposed rule changes on Form 19b-4 and by clarifying which actions taken by SROs are deemed proposed rule changes and so must be filed pursuant to Section 19(b).

The collection of information is designed to provide the Commission with the information necessary to determine, as required by the Act, whether the proposed rule change is consistent with the Act and the rules thereunder. The information is used to determine if the proposed rule change should be approved, disapproved, or if proceedings should be instituted to determine whether the proposed rule change should be approved or disapproved.

The respondents to the collection of information are self-regulatory organizations (as defined by the Act), including national securities exchanges, national securities associations, registered clearing agencies and the Municipal Securities Rulemaking Board.

Twenty-five respondents file an average total of 1,405 responses per year. Each response takes approximately 38.057 hours to complete. The total annual reporting burden for filing proposed rule changes is 53,470 hours. The respondents are required to post all proposed rule changes to their Web sites, each of which takes approximately four hours to complete. For 1,405 proposed rule changes, the total annual reporting burden for posting them to respondents' Web sites is 5,620 hours. The respondents are required to update the postings of those proposed rule changes which become effective (on average, 1,071 per year), each of which takes approximately four hours to complete. The total annual reporting burden for updating proposed rule change postings on the respondents' Web sites is 4,284 hours. Thus, the total estimated annual response burden pursuant to Rule 19b-4 and Form 19b-4 is the sum of the total annual reporting burdens for filing proposed rule changes, posting them to the respondents' Web sites, and updating the postings of those that become effective on the respondents', which is 63,374 hours.

Compliance with Rule 19b-4 is mandatory. Information received in response to Rule 19b-4 shall not be kept confidential; the information collected is public information.

Written comments are invited on: (a) Whether the proposed collection of information is necessary for the proper performance of the functions of the Commission, including whether the information shall have practical utility; (b) the accuracy of the Commission's estimates of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Please direct your comments to: Thomas Bayer, Chief Information Officer, Securities and Exchange Commission, c/o Remi Pavlik-Simon, 6432 General Green Way, Alexandria, Virginia 22312 or send an e-mail to: PRA_Mailbox@sec.gov.

Dated: April 14, 2011.
Cathy H. Ahn,
Deputy Secretary.

[FR Doc. 2011-9775 Filed 4-21-11; 8:45 am]

BILLING CODE 8011-01-P